POSTAL SERVICE

International Product Change—Global Plus 1E

AGENCY: Postal Service™.

ACTION: Notice.

SUMMARY: The Postal Service gives notice of filing a request with the Postal Regulatory Commission to add the Global Plus 1E product to the Competitive Products List.

DATES: Date of notice: October 18, 2017.

FOR FURTHER INFORMATION CONTACT: Kyle Coppin, 202-268-2368.

SUPPLEMENTARY INFORMATION: The United States Postal Service® hereby gives notice that, pursuant to 39 U.S.C. 3642, on October 13, 2017, it filed with the Postal Regulatory Commission a Request of The United States Postal Service to add Global Plus 1E to the Competitive Products List. Documents are available at www.prc.gov, Docket Nos. MC2018-7 and CP2018-12.

Stanley F. Mires,
Attorney, Federal Compliance.

[FR Doc. 2017-22625 Filed 10-17-17; 8:45 am]

BILLING CODE 7710-12-P